ENVIRONMENTAL PROTECTION AGENCY

[FRL OPRM-FAD-207]

Environmental Impact Statements; Notice of Availability

Responsible Agency: Office of Federal Activities, General Information 202-993-3272 or https://www.epa.gov/nepa.

Weekly receipt of Environmental Impact Statements (EIS)

Filed January 16, 2026 10 a.m. EST Through January 26, 2026 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250192, Final, USAF, AK, Proposed Mortar and Artillery Training at Richardson Training Area, Joint Base Elmendorf-Richardson, Alaska, Review Period Ends: 03/02/2026, Contact: David Martin 907-552-8151.

EIS No. 20250193, Draft, USAF, HI, Air Force Maui Optical and Supercomputing Site Small Telescope Research Facility, Comment Period Ends: 03/16/2026, Contact: Levi Davis 719-554-3731.

EIS No. 20250194, Draft, VA, TX, Proposed Relocation of the Veterans Affairs Medical Center (VAMC) San Antonio, Texas, Comment Period Ends: 03/16/2026, Contact: Glenn Elliott 202-360-1243.

EIS No. 20250195, Final Supplement, USFWS, NE, Final Supplemental Environmental Impact Statement for the Nebraska Public Power District Revised R-Project Habitat Conservation Plan, Contact: Kassandra Karssen 308-216-2130.

Amended Notice

EIS No. 20250141, Draft, FERC, WY, Hydropower License re Seminoe Pumped Storage Project, Comment Period Ends: 02/13/2026, Contact: Office of External Affairs 866-208-3372. Revision to FR Notice Published 11/21/2025; Extending the Comment Period from 01/02/2026 to 02/13/2026.

EIS No. 20250188, Final, OSM, AL, ADOPTION—Warrior Met Coal Mines, Contact: Allison Travers 202-501-9341. Revision to FR Notice Published on 1/23/2026. Corrected adopting agency from BLM to OSMRE.

EIS No. 20250190, Draft, FHWA, MD, Chesapeake Bay Crossing Study Tier 2 EIS, Comment Period Ends: 03/09/2026, Contact: Alexander Bienko 410-779-7148. Revision to FR Notice Published 1/23/2026; Correction to Comment Period Due Date from March 20, 2026 to March 9, 2026.

Dated: January 26, 2026.
Nancy Abrams,
Deputy Director, Federal Activities Division.

[FR Doc. 2026-01874 Filed 1-29-26; 8:45 am]

BILLING CODE 6560-50-P